DEPARTMENT OF THE INTERIOR

Bureau of Land Management

[LLWY921000 L14400000.ET0000, 21X; WYW-149140]

Notice of Application for Withdrawal Extension and Opportunity for Public Meeting for the Tie Hack Campground; Wyoming

AGENCY: Bureau of Land Management, Interior.

ACTION: Notice.

SUMMARY: The United States Department of Agriculture, United States Forest Service (USFS), has filed an application with the Bureau of Land Management (BLM) requesting the Secretary of the Interior extend Public Land Order (PLO) No. 7513 for an additional 20-year term. PLO No. 7513 withdrew 20.90 acres of National Forest System lands from location and entry under the United States mining laws, but not from the general land laws or the mineral leasing laws, to protect the Tie Hack Campground and capital investments in Johnson County, Wyoming. This notice advises the public of an opportunity to comment on this application for a withdrawal extension and to request a public meeting.

DATES: Comments and requests for a public meeting regarding the withdrawal application must be received on or before August 23, 2021.

ADDRESSES: Comments and meeting requests should be sent to the BLM Wyoming State Director, 5353 Yellowstone Road, Cheyenne, Wyoming 82009.

FOR FURTHER INFORMATION CONTACT: Keesha Clay, Realty Specialist, at 307-775-6189. Persons who use a telecommunications device for the deaf (TDD) may call the Federal Relay Service (FRS) at 1-800-877-8339 to contact either of the above individuals during normal business hours. The FRS is available 24 hours a day, 7 days a week, to leave a message or question with the above individuals. You will receive a reply during normal business hours.

SUPPLEMENTARY INFORMATION: The withdrawal established by PLO No. 7513 (67 FR 8036) will expire February 20, 2022. The USFS has filed an application to extend PLO No. 7513 for an additional 20-year term.

The purpose of the withdrawal extension is to continue the withdrawal to protect the Tie Hack Campground and capital investments in the area.

The use of a right-of-way, interagency, or cooperative agreement would not constrain nondiscretionary uses.

There are no suitable alternative sites available; there are no other Federal lands in the area containing these recreational values.

There is no water rights requirement for the purpose of this withdrawal extension.

Comments, including name and street address of respondents, will be available for public review at the BLM Wyoming State Office, 5353 Yellowstone Road, Cheyenne, Wyoming, during regular business hours, 8:00 a.m. to 4:30 p.m., Monday through Friday, except holidays.

Before including your address, phone number, email address, or other personal identifying information in your comment, you should be aware that your entire comment—including your personally identifying information—may be made publicly available at any time. While you may ask the BLM in your comment to withhold your personal identifying information from public review, we cannot guarantee that we will be able to do so.

Notice is hereby given that an opportunity for a public meeting is afforded in connection with this withdrawal extension. All interested persons who desire a public meeting for the purpose of being heard on the withdrawal extension must submit a written request to the State Director, BLM Wyoming State Office at the address in the ADDRESSES section, within 90 days from the date of publication of this Notice. If the authorized officer determines that a public meeting will be held, a notice of the date, time, and place will be published in the Federal Register and local newspapers and will post on the BLM website at: www.blm.gov at least 30 days before the scheduled date of the meeting.

Authority: 43 CFR 2310.4.

Kimber Liebhauser,
Acting State Director, Wyoming.

[FR Doc. 2021-10927 Filed 5-24-21; 8:45 am]

BILLING CODE 4310-22-P